FEDERAL COMMUNICATIONS COMMISSION

Sunshine Act Meeting; FCC To Hold Open Commission Meeting; Wednesday, March 19, 2008

March 13, 2008.

The Federal Communications Commission will hold an Open Meeting on the subjects listed below on Wednesday, March 19, 2008, which is scheduled to commence at 9:30 a.m. in Room TW-C305, at 445 12th Street, SW., Washington, DC.

Item No. | Bureau | Subject
1 | Wireline Competition | Title: Promotion of Competitive Networks in Local Telecommunications Markets.
|  | Summary: The Commission will consider a Report and Order concerning exclusive contracts for the provision of telecommunications services in multiple tenant environments (MTEs).
2 | Wireline Competition | Title: Inquiry Concerning the Deployment of Advanced Telecommunications Capability to All Americans in a Reasonable and Timely Fashion, and Possible Steps to Accelerate Such Deployment Pursuant to section 706 of the Telecommunications Act of 1996 (GN Docket No. 07-45).
|  | Summary: The Commission will consider a Fifth Report that examines the availability of advanced telecommunications capability to all Americans pursuant to section 706 of the Telecommunications Act of 1996.
3 | Wireline Competition | Title: Development of Nationwide Broadband Data to Evaluate Reasonable and Timely Deployment of Advanced Services to All Americans, Improvement of Wireless Broadband Subscribership Data, and Development of Data on Interconnected Voice over Internet Protocol (VoIP) Subscribership (WC Docket No. 07-38).
|  | Summary: The Commission will consider a Report and Order and Further Notice of Proposed Rulemaking addressing collection of broadband subscription and availability data.
4 | Wireless Tele-Communications, International, And Office Of Engineering And Technology | Title: Amendment of Parts 1, 21, 73, 74 and 101 of the Commission's Rules to Facilitate the Provision of Fixed and Mobile Broadband Access, Educational, and Other Advanced Services in the 2150-2162 and 2500-2690 MHz Bands (WT Docket No. 03-66, RM-10586); Part 1 of the Commission's Rules—Further Competitive Bidding Procedures (WT Docket No. 03-67); Amendment of Parts 21 and 74 to Enable Multipoint Distribution Service and the Instructional Television Fixed Service Amendment of Parts 21 and 74 to Engage in Fixed Two-Way Transmissions (MM Docket No. 97-217); Amendment of Parts 21 and 74 of the Commission's Rules with Regard to Licensing in the Multipoint Distribution Service and in the Instructional Television Fixed Service for the Gulf of Mexico (WT Docket No. 02-68, RM-9718); Promoting Efficient Use of Spectrum Through Elimination of Barriers to the Development of Secondary Markets (WT Docket No. 00-230); Review of the Spectrum Sharing Plan Among Non-Geostationary Satellite Orbit Mobile Satellite Service Systems in the 1.6/2.4 GHz Bands (IB Docket No. 02-364); and Amendment of Part 2 of the Commission's Rules to Allocate Spectrum Below 3 GHz for Mobile and Fixed Services to Support the Introduction of New Advanced Wireless Services, Including Third Generation Wireless Systems (ET Docket No. 00-258).
|  | Summary: The Commission will consider a Third Order on Reconsideration and Sixth Memorandum Opinion and Order addressing spectrum sharing among incumbent and future services in the 2495-2500 MHz band. The Commission will also consider a Fourth Memorandum Opinion and Order, Declaratory Ruling, and Second Further Notice of Proposed Rulemaking concerning changes to the service rules applicable to the Broadband Radio Service and the Educational Broadband Service.
5 | Wireless Tele-Communications | Title: Biennial Regulatory Review—Amendment of Parts 1, 22, 24, 27 and 90 to Streamline and Harmonize Various Rules Affecting Wireless Radio Services (WT Docket No. 03-264).
|  | Summary: The Commission will consider a Third Report and Order concerning changes to the radiated power rules applicable to certain wireless services.
6 | Media | Title: Carriage of Digital Television Broadcast Signals: Amendment to Part 76 of the Commission's Rules; Implementation of the Satellite Home Viewer Improvement Act of 1999; Local Broadcast Signal Carriage Issues and Retransmission Consent Issues; WHDT-DT, Channel 59, Stuart, Florida., Application for Review (CS Docket No. 00-96)
|  | Summary: The Commission will consider issues regarding carriage of digital broadcast television signals by satellite carriers.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Dated: March 13, 2008.
Federal Communications Commission.
Marlene H. Dortch, Secretary.

[FR Doc. 08-1041 Filed 3-13-08; 1:13 pm]

BILLING CODE 6712-01-P